DEPARTMENT OF JUSTICE

Antitrust Division

Notice Pursuant to the National Cooperative Research and Production Act of 1993—Cool Roof Rating Council

Notice is hereby given that, on February 28, 2022, pursuant to Section 6(a) of the National Cooperative Research and Production Act of 1993, 15 U.S.C. 4301 et seq. (“the Act”), Cool Roof Rating Council (“CRRC”) has filed written notifications simultaneously with the Attorney General and the Federal Trade Commission disclosing additions or changes to its standards development activities. The notifications were filed for the purpose of extending the Act's provisions limiting the recovery of antitrust plaintiffs to actual damages under specified circumstances. Specifically, CRRC launched the Wall Rating Program on January 17, 2022. The Wall Rating Program offers product ratings for companies interested in having their exterior wall products listed and labeled with information about the product's surface radiative performance (solar reflectance and thermal emittance). The Wall Rating Program rates these products based on the CRRC-2 Wall Product Rating Manual, and will also be tested by the Accredited Independent Testing Laboratories (AITL) in accordance with the applicable CRRC-approved test methods.

On December 17, 2004, CRRC filed its original notification pursuant to Section 6(a) of the Act. The Department of Justice published a notice in the Federal Register pursuant to Section 6(b) of the Act on February 2, 2005 (70 FR 5483).

Suzanne Morris,
Chief, Premerger and Division Statistics, Antitrust Division.

[FR Doc. 2022-09458 Filed 5-2-22; 8:45 am]

BILLING CODE P